OFFICE OF PERSONNEL MANAGEMENT

Comment Request for Review of a Revised Information Collection: Leadership Assessment Surveys

AGENCY: Office of Personnel Management.

ACTION: 30-Day notice and request for comments.

SUMMARY: The Office of Personnel Management (OPM) intends to submit to the Office of Management and Budget (OMB) a request for review of a currently approved collection, Leadership Assessment Surveys. OPM is requesting approval of the OPM Leadership 360™, Leadership Potential Assessment, and the Leadership Profiler as a part of this collection. Approval of these surveys is necessary to collect information on Federal agency performance and leadership effectiveness.

DATES: Comments are encouraged and will be accepted until January 26, 2018.

ADDRESSES: Interested persons are invited to submit written comments on the proposed information collection to the Office of Information and Regulatory Affairs, Office of Management and Budget, 725 17th Street NW, Washington, DC 20503, Attention: Desk Officer for the Office of Personnel Management or sent via electronic mail to oira_submission@omb.eop.gov or faxed to (202) 395-6974.

FOR FURTHER INFORMATION CONTACT: A copy of this ICR, with applicable supporting documentation, may be obtained by contacting Human Resources Strategy and Evaluation Solutions, Office of Personnel Management, 1900 E. Street NW, Washington, DC 20415, Attention: Coty Hoover, or via email to Organizational_Assessment@opm.gov or via telephone at (202) 606-1539.

SUPPLEMENTARY INFORMATION: As required by the Paperwork Reduction Act of 1995, (Pub. L. 104-13, 44 U.S.C. chapter 35) as amended by the Clinger-Cohen Act (Pub. L. 104-106), OPM is soliciting comments for this collection. The information collection was previously published in the Federal Register on 09/22/2017 at 82 FR 44472 allowing for a 60 day public comment period. No comments were received for this information collection (OMB No. 3206-0253). The purpose of this notice is to allow an additional 30 days for public comments. Comments are particularly invited on:

1. Whether the proposed collection of information is necessary for the proper performance of the functions of the agency, including whether the information will have practical utility;

2. Whether our estimate of the public burden of this collection is accurate, and based on valid assumptions and methodology; and

3. Ways in which we can minimize the burden of the collection of information on those who are to respond, through the use of the appropriate technological collection techniques or other forms of information technology.

OPM's Human Resources Strategy and Evaluation Solutions performs assessment and related consultation activities for Federal agencies on a reimbursable basis. The assessments are authorized by various statutes and regulations: Section 4702 of Title 5, U.S.C; E.O. 12862; E.O. 13715; Section 1128 of the National Defense Authorization Act for Fiscal Year 2004, Public Law 108-136; 5 U.S.C. 1101 note, 1103(a)(5), 1104, 1302, 3301, 3302, 4702, 7701 note; E.O. 13197, 66 FR 7853, 3 CFR 748 (2002); E.O. 10577, 12 FR 1259, 3 CFR, 1954-1958 Comp., p. 218; and Section 4703 of Title 5, United States Code.

This collection request includes surveys we currently use and plan to use during the next three years to measure Federal leaders' effectiveness. These surveys all measure leadership characteristics. Non-Federal respondents will almost never receive more than one of these surveys. All of these surveys consist of Likert-type, mark-one, and mark-all-that-apply items, and may include a small number of open-ended comment items. OPM's Leadership 360™ assessment measures the 28 competencies that comprise the five Executive Core Qualifications and Fundamental Competencies in the OPM leadership model. The assessment consists of 116 items. The assessment is almost never customized, although customization to meet an agency's needs is possible. OPM's Leadership Potential Assessment consists of 104 items focused on identifying individuals ready to move into supervisory positions. OPM's Leadership Profiler consists of 245 items that measure leadership personality characteristics within a “Big 5” framework. These assessments are almost always administered electronically.

Analysis

Agency: Human Resources Strategy and Evaluation Solutions, Office of Personnel Management.

Title: Leadership Assessment Surveys.

OMB Number: 3206-0253.

Frequency: On occasion.

Affected Public: Individuals and government contractors.

Number of Respondents: Approximately 24,030.

Estimated Time per Respondent: 15 minutes for the OPM Leadership 360™ and Leadership Potential Assessment; 45 minutes for the Leadership Profiler. The latter will almost never be administered to non-Federal employees, so the average time is approximately 15 minutes.

Total Burden Hours: 6,007 hours.

Office of Personnel Management.
Kathleen M. McGettigan,
Acting Director.

[FR Doc. 2017-27957 Filed 12-26-17; 8:45 am]

BILLING CODE 6325-43-P